DEPARTMENT OF HOMELAND SECURITY

National Protection and Programs Directorate; Statewide Communication Interoperability Plan Implementation Report

AGENCY: National Protection and Programs Directorate, Department of Homeland Security.

ACTION: 60-Day Notice and request for comments; New Information Collection Request: 1670-NEW.

SUMMARY: The Department of Homeland Security, National Protection and Programs Directorate/Cybersecurity and Communications/Office of Emergency Communications, has submitted the following Information Collection Request (ICR) to the Office of Management and Budget (OMB) for review and clearance in accordance with the Paperwork Reduction Act of 1995 (Pub. L. 104-13, 44 U.S.C. Chapter 35).

DATES: Comments are encouraged and will be accepted until March 8, 2010. This process is conducted in accordance with 5 CFR 1320.1.

ADDRESSES: Written comments and questions about this Information Collection Request should be forwarded to NPPD/CS&C/OEC, Attn.: Jonathan Clinton, Jonathan.Clinton@dhs.gov.

SUPPLEMENTARY INFORMATION: The Office of Emergency Communications (OEC), formed under Title XVIII of the Homeland Security Act of 2002, 6 U.S.C. 101 et seq., is responsible for ensuring that activities funded by the Interoperable Emergency Communications Grant Program (IECGP) (6 U.S.C. 579) comply with the Statewide Communication Interoperability Plan (SCIP) for that State required by section 7303(f) of the Intelligence Reform and Terrorism Prevention Act of 2004 (6 U.S.C. 194(f)). Further, under the Implementing Recommendations of the 9/11 Commission Act of 2007 (6 U.S.C. 579(m)), a State that receives a grant under the IECGP must annually submit to the Director of OEC a report on the progress of the State in implementing its SCIP and on achieving interoperability at the city, county, regional, State, and interstate levels. OEC is then required to make these reports publicly available (6 U.S.C. 579(m)). The SCIP Implementation Report Form is designed to meet these statutory requirements. SCIP Implementation Reports will be submitted electronically.

Analysis

Agency: Department of Homeland Security, National Protection and Programs Directorate.

Title: Statewide Communication Interoperability Plan Implementation Report.

Form: Not Applicable.

OMB Number: 1670-NEW.

Frequency: Yearly.

Affected Public: State, local, or tribal government.

Number of Respondents: 56.

Estimated Time per Respondent: 6 hours.

Total Burden Hours: 336 annual burden hours.

Total Burden Cost (operating/maintaining): $8,205.12.

Signed: December 22, 2009.
Thomas Chase Garwood, III,
Chief Information Officer, National Protection and Programs Directorate, Department of Homeland Security.

[FR Doc. E9-31266 Filed 1-4-10; 8:45 am]

BILLING CODE 9910-9P-P